COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List a product and a service to be furnished by nonprofit agencies employing persons who are blind or have other severe disabilities.

Comments Must be Received on or Before: September 10, 2006.

ADDRESSES: Committee for Purchase From People Who Are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the product and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and service to the Government.

2. If approved, the action will result in authorizing small entities to furnish the product and service to the Government.

3. There are no known regulatory alternatives which would accomplish the objectives of the Javits-Wagner-O'Day Act (41 U.S.C. 46-48c) in connection with the product and service proposed for addition to the Procurement List.

Comments on this certification are invited. Commenters should identify the statement(s) underlying the certification on which they are providing additional information.

End of Certification

The following product and service are proposed for addition to Procurement List for production by the nonprofit agencies listed:

Product

Product/NSNs: Coat, Airman's Battle Uniform, Men's (ABU)

8415-01-536-4578—Size 42 X-Short.

8415-01-536-4224—Size 36 Regular.

8415-01-536-4188—Size 34 Regular.

8415-01-536-4182—Size 34 X-Short.

8415-01-536-4193—Size 36 X-Short.

8415-01-536-4192—Size 34 X-Long.

8415-01-536-4227—Size 36 Long.

8415-01-536-4585—Size 42 X-Long.

8415-01-536-4583—Size 42 Regular.

8415-01-536-4577—Size 40 X-Long.

8415-01-536-4640—Size 48 Regular.

8415-01-536-4682—Size 50 Regular.

8415-01-536-4241—Size 38 Short.

8415-01-536-4239—Size 38 X-Short.

8415-01-536-4593—Size 46 Short.

8415-01-536-4592—Size 44 X-Long.

8415-01-536-4588—Size 50 X-Short.

8415-01-536-4586—Size 44 Short.

8415-01-536-4584—Size 42 Long.

8415-01-536-4574—Size 40 Regular.

8415-01-535-4170—Size 32 X-Short.

8415-01-536-4712—Size 50 Long.

8415-01-536-4639—Size 48 Short.

8415-01-536-4651—Size 48 Long.

8415-01-536-4367—Size 38 Regular.

8415-01-536-4369—Size 38 Long.

8415-01-536-4674—Size 50 Short.

8415-01-536-4576—Size 40 Long.

8415-01-536-4606—Size 46 X-Long.

8415-01-536-4596—Size 46 Regular.

8415-01-536-4600—Size 46 Long.

8415-01-536-4197—Size 36 Short.

8415-01-536-4573—Size 40 Short.

8415-01-536-4581—Size 42 Short.

8415-01-536-4178—Size 32 Regular.

8415-01-536-4237—Size 36 X-Long.

8415-01-536-4591—Size 44 Long.

8415-01-536-4590—Size 44 Regular.

8415-01-536-4180—Size 32 Long.

8415-01-536-4189—Size 34 Long.

8415-01-536-4134—Size 32 Short.

8415-01-536-4184—Size 34 Short.

8415-01-536-4572—Size 40 X-Short.

8415-01-536-4571—Size 38 X-Long.

Product/NSNs: Coat, Airman's Battle Uniform, Women's, (ABU)

8410-01-536-3760—Size 6 Short.

8410-01-536-3000—Size 6 X-Short.

8410-01-536-2994—Size 4 Regular.

8410-01-536-3763—Size 6 Regular.

8410-01-536-2980—Size 4 X-Short.

8410-01-536-2977—Size 2 Regular.

8410-01-536-2974—Size 2 Short.

8410-01-536-2982—Size 4 Short.

8410-01-536-3825—Size 20 Regular.

8410-01-536-3819—Size 18 Regular.

8410-01-536-3822—Size 18 Long.

8410-01-536-3816—Size 18 Short.

8410-01-536-3814—Size 16 Long.

8410-01-536-3812—Size 16 Regular.

8410-01-536-3808—Size 16 Short.

8410-01-536-3807—Size 16 X-Short.

8410-01-536-3805—Size 14 Long.

8410-01-536-3804—Size 14 Regular.

8410-01-536-3803—Size 14 Short.

8410-01-536-3800—Size 14 X-Short.

8410-01-536-3799—Size 12 Long.

8410-01-536-3797—Size 12 Regular.

8410-01-536-3795—Size 12 Short.

8410-01-536-3793—Size 12 X-Short.

8410-01-536-3792—Size 10 Long.

8410-01-536-3789—Size 10 Regular.

8410-01-536-3787—Size 10 Short.

8410-01-536-3784—Size 10 X-Short.

8410-01-536-3782—Size 8 Long.

8410-01-536-3779—Size 6 Long.

8410-01-536-3776—Size 8 Regular.

8410-01-536-3772—Size 8 Short.

8410-01-536-3769—Size 8 X-Short.

NPA: Goodwill Industries of South Florida, Inc., Miami, FL.

NPA: Four Rivers Resource Services, Inc., Linton, IN (at its facility in Sullivan, IN).

Coverage: The requirement being proposed for addition to the Procurement List is a quantity of no more than 100,000 units of any combination of the above NSNs for Coat, Airman's Battle Uniform, Men's or Coat, Airman's Battle Uniform, Women's.

Contracting Activity: Defense Supply Center Philadelphia, Philadelphia, PA.

Product/NSNs: Trousers, Airman's Battle Uniform, Men's (ABU)

8415-01-536-4121—Size 46 Long.

8415-01-536-4111—Size 46 Regular.

8415-01-536-4103—Size 44 Short.

8415-01-536-4102—Size 44 Regular.

8415-01-536-4088—Size 42 Long.

8415-01-536-4077—Size 42 Short.

8415-01-536-4075—Size 40 X-Long.

8415-01-536-4073—Size 40 Long.

8415-01-536-4067—Size 40 Short.

8415-01-536-4021—Size 38 X-Long.

8415-01-536-3935—Size 38 Long.

8415-01-536-3920—Size 38 Short.

8415-01-536-3916—Size 38 X-Short.

8415-01-536-3912—Size 36 X-Long.

8415-01-536-3905—Size 36 Long.

8415-01-536-3903—Size 36 Regular.

8415-01-536-3893—Size 36 Short.

8415-01-536-3890—Size 40 X-Short.

8415-01-536-3874—Size 34 X-Long.

8415-01-536-3869—Size 34 Long.

8415-01-536-3855—Size 34 Regular.

8415-01-536-3849—Size 34 Short.

8415-01-536-3846—Size 34 X-Short.

8415-01-536-3844—Size 32 X-Long.

8415-01-536-3836—Size 32 Long.

8415-01-536-3833—Size 32 Regular.

8415-01-536-3830—Size 32 Short.

8415-01-536-3880—Size 36 X-Short.

8415-01-536-3826—Size 32 X-Short.

8415-01-536-3823—Size 30 X-Long.

8415-01-536-3821—Size 30 Long.

8415-01-536-3817—Size 30 Regular.

8415-01-536-3809—Size 30 X-Short.

8415-01-536-3794—Size 30 Short.

8415-01-536-3791—Size 28 X-Long.

8415-01-536-3927—Size 38 Regular.

8415-01-536-3777—Size 28 Long.

8415-01-536-3774—Size 28 Regular.

8415-01-536-3759—Size 28 Short.

8415-01-536-4071—Size 40 Regular.

8415-01-536-3758—Size 28 X-Short.

8415-01-536-4109—Size 44 Long.

8415-01-536-4081—Size 42 Regular.

Product/NSNs: Trousers, Airman's Battle Uniform, Women's, (ABU)

8410-01-536-2748—Size 12 Short.

8410-01-536-2746—Size 12 X-Short.

8410-01-536-2744—Size 10 Long.

8410-01-536-2740—Size 10 Short.

8410-01-536-2739—Size 10 X-Short.

8410-01-536-2736—Size 8 Long.

8410-01-536-2725—Size 8 Short.

8410-01-536-2723—Size 8 X-Short.

8410-01-536-2721—Size 6 Long.

8410-01-536-2720—Size 6 Regular.

8410-01-536-2719—Size 6 Short.

8410-01-536-2718—Size 6 X-Short.

8410-01-536-2715—Size 4 Regular.

8410-01-536-2714—Size 4 X-Short.

8410-01-536-2711—Size 2 Regular.

8410-01-536-2709—Size 2 Short.

8410-01-536-2734—Size 8 Regular.

8410-01-536-2742—Size 10 Regular.

8410-01-536-2749—Size 12 Regular.

8410-01-536-2785—Size 22 Regular.

8410-01-536-2783—Size 20 Long.

8410-01-536-2780—Size 20 Regular.

8410-01-536-2778—Size 18 Long.

8410-01-536-2774—Size 18 Regular.

8410-01-536-2773—Size 18 Short.

8410-01-536-2771—Size 16 Long.

8410-01-536-2770—Size 16 Regular.

8410-01-536-2766—Size 16 Short.

8410-01-536-2765—Size 16 X-Short.

8410-01-536-2761—Size 14 Long.

8410-01-536-2760—Size 14 Regular.

8410-01-536-2756—Size 14 Short.

8410-01-536-2801—Size 4 Short.

8410-01-536-2754—Size 14 X-Short.

8410-01-536-2752—Size 12 Long.

NPA: Goodwill Industries of South Florida, Inc., Miami, FL.

NPA: CASCO Area Workshop, Inc., Harrisonville, MO.

Coverage: The requirement being proposed for addition to the Procurement List is a quantity of no more than 200,000 units of any combination of the above NSNs for Trousers, Airman's Battle Uniform, Men's or Trousers, Airman's Battle Uniform, Women's.

Contracting Activity: Defense Supply Center Philadelphia, Philadelphia, PA

Service

Service Type/Location: Grounds Maintenance, Naval Operations Support Center, 800 Dan Street, Akron, OH.

Service Type/Location: Grounds Maintenance/Refuse Removal/Snow Removal, Naval Operations Support Center, 7221 Second Street, Columbus, OH.

Service Type/Location: Custodial/Grounds Maintenance, Naval Operations Support Center, 28828 Glenwood Road, Perrysburg, OH.

NPA: VGS, Inc., Cleveland, OH.

Contracting Activity: Naval Facilities Engineering Field Activity Midwest, Great Lakes, IL.

Sheryl D. Kennerly,
Director, Information Management.

[FR Doc. E6-13163 Filed 8-10-06; 8:45 am]

BILLING CODE 6353-01-P